DEPARTMENT OF LABOR

Mine Safety and Health Administration

Petitions for Modification of Application of Existing Mandatory Safety Standard

AGENCY: Mine Safety and Health Administration, Labor.

ACTION: Notice.

SUMMARY: This notice is a summary of petition for modification submitted to the Mine Safety and Health Administration (MSHA) by the parties listed below.

DATES: All comments on the petition must be received by MSHA's Office of Standards, Regulations, and Variances on or before September 3, 2019.

ADDRESSES: You may submit your comments, identified by “docket number” on the subject line, by any of the following methods:

1. Email: zzMSHA-comments@dol.gov. Include the docket number of the petition in the subject line of the message.

2. Facsimile: 202-693-9441.

3. Regular Mail or Hand Delivery: MSHA, Office of Standards, Regulations, and Variances, 201 12th Street South, Suite 4E401, Arlington, Virginia 22202-5452, Attention: Sheila McConnell, Director, Office of Standards, Regulations, and Variances. Persons delivering documents are required to check in at the receptionist's desk in Suite 4E401. Individuals may inspect a copy of the petition and comments during normal business hours at the address listed above.

MSHA will consider only comments postmarked by the U.S. Postal Service or proof of delivery from another delivery service such as UPS or Federal Express on or before the deadline for comments.

FOR FURTHER INFORMATION CONTACT: Sheila McConnell, Office of Standards, Regulations, and Variances at 202-693-9447 (voice), mcconnell.sheila.a@dol.gov (email), or 202-693-9440 (fax). [These are not toll-free numbers.]

SUPPLEMENTARY INFORMATION: Section 101(c) of the Federal Mine Safety and Health Act of 1977 and Title 30 of the Code of Federal Regulations Part 44 govern the application, processing, and disposition of petitions for modification.

I. Background

Section 101(c) of the Federal Mine Safety and Health Act of 1977 (Mine Act) allows the mine operator or representative of miners to file a petition to modify the application of any mandatory safety standard to a coal or other mine if the Secretary of Labor determines that:

1. An alternative method of achieving the result of such standard exists which will at all times guarantee no less than the same measure of protection afforded the miners of such mine by such standard; or

2. That the application of such standard to such mine will result in a diminution of safety to the miners in such mine.

In addition, the regulations at 30 CFR 44.10 and 44.11 establish the requirements and procedures for filing petitions for modification.

II. Petitions for Modification

Docket Number: M-2019-020-C.

Petitioner: Rockwell Mining, LLC, 300 Kanawha Boulevard, East (ZIP 25301), P.O. Box 273, Charleston, West Virginia 25321-0273.

Mine: Matewan Tunnel Mine, MSHA I.D. No. 46-08610, located in Boone County, West Virginia.

Regulation Affected: 30 CFR 75.1108(c) (Approved conveyor belts).

Modification Request: The petitioner requests a modification of the Part 14 belt standard because the unique layout of the mine as well as additional safety measures that will be put in place will make the conveyor belt in the Tunnel Mine at least as safe as compliance with Part 14.

The petitioner states that:

(1) The Tunnel Mine is a straight, three-entry tunnel mine developed in 1998. The mine has been non-producing since 1998. At the time of development, the sole purpose of the project was to provide an excavation to install a conveyor system to transport raw coal. The seam is 33 inches thick, requiring 48 inches of outseam excavation to facilitate the conveyor system. The Tunnel Mine does not liberate any methane.

(2) The Tunnel Mine consists of three entries developed on a straight course 10,500 feet from outcrop to outcrop. The roof in the belt entry (center entry) is supported by 6-foot fully grouted bolts with T5 steel channels in every row. Steel straps and four-foot conventional bolts support the ribs. The final conveyor structure is offset in the entry to provide complete access along its entire length. Thus, the ventilation system will not likely be compromised by roof or rib integrity measures.

(3) The 42-inch conveyor is 12,445 feet long and is powered by two separate drive installations located on the surface at each end of the underground excavation (500 HP at Rocklick and 1,000 HP at Harris). The conveyor is uniquely designed to turn over on each end to maintain the material handling surface in an upward facing position. Both the top and bottom structure are troughed 35 degrees to provide simultaneous transportation capacity on the top and return portions of the belt. The conveyor uses special belt with steel cable carcass related at 1,900 pounds per inch of belt width (PIW). Traveling 680 feet per minute (FPM), the belt system has a carrying capacity of 1,000 tons per hour (TPH) on each belt (top and bottom totaling 2,000 TPH).

(4) The Tunnel Mine currently only transports a fraction of its design capacity. Currently, the Tunnel Mine transports only raw coal from two continuous miner sections in the Black Oak Mine with an estimated daily volume of 4,000 raw tons to Rocklick. The return belt capacity is not utilized at the mine.

—The portal at the Preparation Plant side of the Tunnel Mine is known as the Rocklick Portal. The portal at the other end is known as the Harris Portal. The Tunnel Mine is ventilated from the Rocklick Portal with a 5.5 foot blowing fan with a 1,200 rpm speed, set to Blade Setting No. 5, producing 95,000 cfm of airflow.

—At the Rocklick Portal, fresh air enters in the No. 1 entry and travels to the No. 11 crosscut and splits. A small portion of the air goes to entry Nos. 2 and 3 from crosscut No. 11 back to the Rocklick Portal. The remaining air flows to the Harris Portal from crosscuts 11 to 75 in all three entries. The air in the Tunnel Mine is considered neutral.

—The existing belt, which is believed to have been installed between 2005 and 2007, is in excellent condition with little wear. There are no belt drives, tails, or dumping points on the underground portion of the belt flight. The belt runs one shift per day, approximately 8 to 9 hours. At the Harris Portal, an additional 1,250 feet of conveyor takes the belt to the Black Oak Mine surface loading point. At the Rocklick Portal, about 500 feet of conveyor belt takes the coal to the raw coal pile.

—The Tunnel Mine has numerous safety features at or above the minimum standards, including:

(a) Mandoors every 300 feet on each stopping line.

(b) Carbon monoxide monitors every 1,000 feet.

(c) The conveyor has belt alignment rollers every 1,000 feet.

(d) Fire taps located every 300 feet. Hoses are located at breaks 1, 37, and 74, which exceeds the minimum requirements.

(e) The operator x-rays the belt annually to ensure the integrity of the existing belt.

(f) Two-way communications (pager phones) are located underground at every seventh break throughout the mine. The control room operator at Rocklick monitors the communication system. Two-way wireless radios worn by the surface employees can communicate with the examiner underground.

(g) The roadways are graveled.

(h) Emergency belt stop switches every seventh break.

(i) No violations have been issued on the belt since May 19, 1998.

—Certified examiners travel the belt entry on a two-man ride to examine the belt once per shift and record those findings in the required mine books.

—Normally, the Tunnel Mine operates with only one miner underground while the belt is running. The examiners of the Tunnel Mine are a certified foreman and electricians. Examinations take about 1 hour per shift. When necessary, a certified miner helps with maintenance and other tasks in the mine.

—There are no belt drives, tailpieces, or electric motors inside the Tunnel Mine. The belt only runs through the mine on conveyor structure and rollers.

—The belt is approximately 1 inch thick, 42 inches wide and has steel cable imbedded in the belt. The belt at each end is turned over so that the coal side is always facing up on transport and return. The design greatly reduces any spillage and accumulations in the mine.

—Self-Contained Self-Rescuer caches are stored at breaks 14, 28, 37, 42, 56, and 70. There ae also emergency barricade materials kept in the No. 3 entry.

—The Tunnel Mine also has emergency lifelines throughout. Further, the following significant fire detection and fire-fighting devices are in the mine:

(1) The beltline has 13 smoke detection and carbon monoxide (CO) sensors approximately every 5 to 6 breaks. The CO sensors are currently set to “low alarm” at 5 parts per millions (ppm) and “high alarm” at 10 ppm, far below levels that present any danger to miners. The CO monitoring system will be programmed to shut off the belt at “high alarm” and;

(2) The two-man ride used to examine the belt has self-rescuers and separate fire extinguishers.

—The only alternative to using the Tunnel Mine belt will be to truck Black Oak Mine coal to Rocklick. This will significantly increase the number of trucks on Route 85 in Boone County between Black Oak and Rocklick Preparation Plant. The increase in trucks going in and out of the Rocklick Preparation Plant will also add congestion to the load out traffic flow.

—The operator has not experienced any safety issues with the conveyor belt in the Tunnel Mine nor has it received any 30 CFR 75.400 citations for accumulations of combustible materials during current ownership. The operator has not experienced any fire related issues on the conveyor belt at the Tunnel Mine nor has it experienced any significant issues with rollers on the belt in the Tunnel Mine beyond routine maintenance.

—Based on a chemical laboratory analysis, the belt has been confirmed to be Part 18 compliant. The belt has not been tested for Part 14 compliance due to the operator's difficulty in finding an appropriate testing facility.

The petitioner proposes the following alternative method of achieving the purposes of the standard:

(a) Prior to a qualified person entering the mine, the CO system data from the prior 2 hours will be monitored for any sign of combustion. At the end of coal transport each day (fire run), the CO system data from the prior 4 hours will be monitored for any signs of combustion (i.e., CO or smoke detection by CO monitors on the belt).

(b) A daily functional (bump) test of at least one sensor will be conducted for CO in addition to the weekly functional test required under 30 CFR 75.1103-8. A different sensor will be bump tested each day.

(c) The operator will train miners on the location of Part 18 belt and interim safety measures being taken herein and revise instruction under 30 CFR 75.1502 as appropriate.

(d) An immediate functional test of the fire suppression system along with additional tests will be conducted weekly. A daily visual inspection of the entire fire suppression system will be conducted by a qualified person.

(e) The operator will install a “waterwall system” every 900 feet that will be tapped into the CO monitoring system. The waterwall will activate at 50 ppm of CO. The waterwall will provide a minimum of 50 psi and 45 GPM of water curtain from roof to floor and rib to rib.

(f) Except during the on-shift exam, the belt will be cleared of coal and will run empty during examinations. Examinations generally take less than one hour. Currently, the belt runs approximately 8-9 hours a day.

(g) Other than replacing water pumps, no motors, electrical equipment, or belt drives will be added underground and no changes will be made to the belt configuration or layout while this petition is in effect.

(h) Examiners will enter the mine from the Harris Portal at the downwind side so the examiner is traveling towards the fan. From entries 75 to 11, the examiner will be traveling into fresh air. From crosscut No. 11 to the Rocklick Portal, fresh air will come from behind the examiner for those 11 breaks.

(i) Examiners will be trained to immediately notify the dispatcher in the event of CO detection. Radio contact is established throughout the Tunnel Mine beltline. Should a fire be encountered and not extinguished according to the Mine Act, the examiner will withdraw from the Tunnel Mine and notify MSHA as required under applicable law.

(j) If the CO detection system is down, the belt will not operate until necessary repairs have been made.

(k) All necessary replacement belt will be Part 14 compliant. As the belt is repaired and sections replaced, Part 14 belt will be used.

(l) The belt will not be in operation while most maintenance is conducted on the beltline.

(m) The operator will continue annual x-ray examinations.

The petitioner asserts that the proposed alternative method will provide no less than the same measure of protection afforded the miners under the existing standard.

Sheila McConnell,
Director, Office of Standards, Regulations, and Variances.

[FR Doc. 2019-16390 Filed 7-31-19; 8:45 am]

BILLING CODE 4520-43-P